NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On January 31, 2001, the National Science Foundation published notice in the Federal Register of a permit application received. The permit was issued on March 12, 2001 to: Daniel P. Costa, Permit No. 2001-025.

Nadene G. Kennedy,
Permit Officer.

[FR Doc. 01-6574 Filed 3-15-01; 8:45 am]

BILLING CODE 7555-01-M